DEPARTMENT OF JUSTICE

Office of Justice Programs

[OMB Number: 1121-0314]

Agency Information Collection Activities: Reinstatement, With Change, of a Previously Approved Collection for Which Approval Has Expired; Comments Requested

ACTION: 30-Day Notice of Information Collection Under Review: Firearms Inquiry Statistics (FIST) Program.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. This proposed information collection was previously published in the Federal Register Volume 75, Number 163, page 52026, on August 24, 2010, allowing for a 60-day comment period.

The purpose of this notice is to allow for an additional 30 days for public comment until November 26, 2010. This process is conducted in accordance with 5 CFR 1320.10.

If you have comments especially on the estimated public burden or associated response time, suggestions, or need a copy of the proposed information collection instrument with instructions or additional information, please contact Allina D. Boutilier, Bureau of Justice Statistics, 810 Seventh St., NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) Title of the Form/Collection: Firearms Inquiry Statistics (FIST) Program.

(3) Agency form number, if any, and the applicable component of the Department of Justice sponsoring the collection: Not applicable. As applicable, tally sheets and an Excel spreadsheet are sent to relevant State and local agencies for reporting purposes. These data collection forms have not been assigned an agency form number but will be labeled with the appropriate OMB number as required.

(4) Affected public who will be asked or required to respond, as well as a brief abstract: Primary: State and Local Governments. This information collection is a survey of State and local agencies that conduct background checks on individuals applying to purchase firearms from federally licensed firearm dealers. The information will provide national statistics on the total number of applications and rejections annually, reasons for rejection, and arrest and appeal information.

(5) An estimate of the total number of respondents and the amount of time estimated for an average respondent to respond: The survey will be sent to an estimated 816 state and local agencies. It is estimated that 653 respondents (80 percent of the sample) will spend a cumulative total of 15 minutes annually responding to the survey and/or verifying information.

(6) An estimate of the total public burden (in hours) associated with the collection:

There are an estimated 163.25 total annual burden hours associated with this collection. This estimate is higher than the figure reported on the 60 day notice (139.75 hours). The figure listed in the 60 day notice assumed a response rate of 70 percent. However, BJS and the data collection agent will continue to identify ways to encourage a higher response rate in future data collections and, as will be set forth in the FY2011 funding announcement for the FIST program, BJS has established as a performance measure a goal of achieving an overall response rate of 80 percent. To calculate the current estimated public reporting burden for this information collection, the estimated response rate submitted previously was reassessed and revised to reflect the current performance measure established for the data collection agent.

This revised estimate remains lower than the estimated public burden approved in 2007 (341.5 hours). The decreased burden is associated with a change in data collection schedule from twice to once annually. BJS determined that the relevant data could be effectively obtained by administering the survey once a year, and this schedule is anticipated to continue in subsequent information collections.

If additional information is required contact: Lynn Murray, Department Clearance Officer, United States Department of Justice, Justice Management Division, Policy and Planning Staff, Two Constitution Square, 145 N Street, NE., Suite 2E-502, Washington, DC 20530.

Dated: October 21, 2010.
Lynn Murray,
Department Clearance Officer, PRA, U.S. Department of Justice.

[FR Doc. 2010-27105 Filed 10-26-10; 8:45 am]

BILLING CODE 4410-18-P